DEPARTMENT OF LABOR

Office of the Assistant Secretary for Administration and Management

29 CFR Parts 95, 96, 97, and 99

[Docket No. ETA-2025-0002]

RIN 1291-AA48

Obsolete Grant and Contract Regulations

AGENCY: Office of the Assistant Secretary for Administration and Management, Labor.

ACTION: Direct final rule (DFR); request for comments.

SUMMARY: This DFR removes obsolete grant and contract regulations in the Department of Labor's regulations. These grant and contract regulations were superseded by the Office of Management and Budget's (OMB's) Guidance for Grants and Agreements, codified in the Code of Federal Regulations, which the Department of Labor adopted and gave regulatory effect to in 2014.

DATES: The direct final rule is effective September 2, 2025, unless significant adverse comments are received by July 31, 2025. Significant adverse comments are ones which oppose the rule and raise, alone or in combination, a serious enough issue related to each of the independent grounds for the rule that a substantive response is required. If significant adverse comments are received, notification will be published in the Federal Register before the effective date either withdrawing the rule or issuing a new final rule which responds to significant adverse comments.

ADDRESSES: You may send comments, identified by Docket No. ETA-2025-0002 and Regulatory Identification Number (RIN) 1291-AA48, by the following method:

• Federal eRulemaking Portal: https://www.regulations.gov. Search for the above-referenced RIN, open the interim final rule, and follow the on-screen instructions for submitting comments.

Instructions: All submissions received must include the agency name and docket number for this rulemaking or “RIN 1291-AA48.”

Please be advised that the Department will post comments received that relate to this interim final rule to https://www.regulations.gov, including any personal information provided. The https://www.regulations.gov website is the Federal e-Rulemaking Portal and all comments posted there are available and accessible to the public. Please do not submit comments containing trade secrets, confidential or proprietary commercial or financial information, personal health information, sensitive personally identifiable information (for example, social security numbers, driver's license or State identification numbers, passport numbers, or financial account numbers), or other information that you do not want to be made available to the public. Should the agency become aware of such information, the agency reserves the right to redact or refrain from posting sensitive information, libelous, or otherwise inappropriate comments, including those that contain obscene, indecent, or profane language; that contain threats or defamatory statements; or that contain hate speech. Please note that depending on how information is submitted, the agency may not be able to redact the information, and instead reserves the right to refrain from posting the information or comment in such situations.

Docket: For access to the docket to read background documents or comments received, go to https://www.regulations.gov (search using RIN 1291-AA48 or Docket No. ETA-2025-0002). If you need assistance to review the comments, contact the Office of Policy Development and Research at 202-693-3700 (this is not a toll-free number).

FOR FURTHER INFORMATION CONTACT: Thomas Kodiak, Administrator, Office of Grants Management, Employment and Training Administration, U.S. Department of Labor, 200 Constitution Avenue NW, Room S-4519, Washington, DC 20210, Telephone: (202) 693-6617 (voice) (this is not a toll-free number). For persons with a hearing or speech disability who need assistance to use the telephone system, please dial 711 to access telecommunications relay services.

SUPPLEMENTARY INFORMATION:

I. Discussion

The Department of Labor (“DOL” or “Department”) is rescinding obsolete regulations governing grants and agreements with universities, hospital, other non-profits, commercial organizations, foreign governments, and international organizations (29 CFR part 95); audit requirements for grants, contracts, and other agreements (29 CFR part 96); uniform administrative requirements for grants and cooperative agreements to State and local governments (29 CFR part 97) and audit requirements for States, local governments, and non-profit organizations (29 CFR part 99). DOL previously promulgated these regulations to adopt standards in Office of Management and Budget (OMB) Circulars A-110, A-102, and A-133. Specifically, A-110 was adopted by 29 CFR part 95 in 1994 (59 FR 38270); Circular A-102 was adopted by 29 CFR part 97 in 1988 (53 FR 8034); and Circular A-133 was adopted by 29 CFR parts 96 and 99 in 1999 (64 FR 14539). In 2013, OMB published its Guidance for Grants and Agreements (78 FR 78590), which was codified at 2 CFR part 200, also known as the “Uniform Guidance.” That Guidance superseded Circulars A-102, A-110, and A-133, and the regulations at 29 CFR parts 95-97 and 99 were superseded when the Department adopted and gave regulatory effect to the Uniform Guidance on December 19, 2014 (79 FR 76081). See 2 CFR 2900.4.

Therefore, these regulations are at best redundant and at worst confusing to regulated entities that might wonder which set of regulations applies. The Department is undertaking this ministerial action to remove the regulations from the CFR.

II. Procedural Issues and Regulatory Review

A. Review Under Executive Orders 12866

Executive Order (E.O.) 12866, “Regulatory Planning and Review,” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

Section 6(a) of E.O. 12866 also requires agencies to submit “significant regulatory actions” to OIRA for review. OIRA has determined that this direct final rule does not constitute a “significant regulatory action” under section 3(f) of E.O. 12866. Accordingly, this direct final rule was not submitted to OIRA for review under E.O. 12866.

B. Review Under the Regulatory Flexibility Act

The Regulatory Flexibility Act (5 U.S.C. 601 et seq.) requires preparation of a final regulatory flexibility analysis (FRFA) for any rule that by law must be proposed for public comment, unless the agency certifies that the rule, if promulgated, will not have a significant economic impact on a substantial number of small entities. This rule was not required to be proposed for public comment, so no FRFA was warranted.

C. Review Under the Paperwork Reduction Act

The Paperwork Reduction Act of 1995 (44 U.S.C. 3501 et seq.) requires minimizing the paperwork burden on affected entities. This rescission imposes no new information or record-keeping requirements. Accordingly, OMB clearance is not required under the Paperwork Reduction Act.

D. Review Under Executive Order 13132

E.O. 13132, “Federalism,” 64 FR 43255 (August 10, 1999), imposes certain requirements on Federal agencies formulating and implementing policies or regulations that preempt State law or that have federalism implications. The E.O. 13132 requires agencies to examine the constitutional and statutory authority supporting any action that would limit the policymaking discretion of the States and to carefully assess the necessity for such actions. The E.O. 13132 also requires agencies to have an accountable process to ensure meaningful and timely input by State and local officials in the development of regulatory policies that have Federalism implications.

DOL has examined this rescission and has determined that it would not have a substantial direct effect on the States, on the relationship between the Federal government and the States, or on the distribution of power and responsibilities among the various levels of government.

E. Review Under Executive Order 12988

With respect to the review of existing regulations and the promulgation of new regulations, section 3(a) of E.O. 12988, “Civil Justice Reform,” imposes on Federal agencies the general duty to adhere to the following requirements: (1) eliminate drafting errors and ambiguity, (2) write regulations to minimize litigation, (3) provide a clear legal standard for affected conduct rather than a general standard, and (4) promote simplification and burden reduction. 61 FR 4729 (Feb. 7, 1996). Regarding the review required by section 3(a), section 3(b) of E.O. 12988 specifically requires that Executive agencies make every reasonable effort to ensure that the regulation: (1) clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General.

Section 3(c) of E.O. 12988 requires Executive agencies to review regulations in light of applicable standards in section 3(a) and section 3(b) to determine whether they are met or it is unreasonable to meet one or more of them. DOL has completed the required review and determined that, to the extent permitted by law, this rescission meets the relevant standards of E.O. 12988.

F. Review Under the Unfunded Mandates Reform Act

Title II of the Unfunded Mandates Reform Act of 1995 (UMRA) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. 2 U.S.C. 1532(a), (b)). The UMRA also requires a Federal agency to develop an effective process to permit timely input by elected officers of State, local, and Tribal governments on a “significant intergovernmental mandate,” and requires an agency plan for giving notice and opportunity for timely input to potentially affected small governments before establishing any requirements that might significantly or uniquely affect them.

DOL examined this rescission according to UMRA and determined that the rescission does not contain a Federal intergovernmental mandate, nor is it expected to require expenditures of $100 million or more in any one year by State, local, and Tribal governments, in the aggregate, or by the private sector. As a result, the analytical requirements of UMRA do not apply.

G. Review Under the Treasury and General Government Appropriations Act, 1999

Section 654 of the Treasury and General Government Appropriations Act, 1999 (Pub. L. 105-277) requires Federal agencies to issue a Family Policymaking Assessment for any rule that may affect family well-being. This rescission would not have any impact on the autonomy or integrity of the family as an institution. Accordingly, DOL has concluded that it is not necessary to prepare a Family Policymaking Assessment.

H. Review Under Executive Order 12630

Pursuant to E.O. 12630, “Governmental Actions and Interference with Constitutionally Protected Property Rights,” 53 FR 8859 (March 18, 1988), DOL has determined that this rescission would not result in any takings that might require compensation under the Fifth Amendment to the U.S. Constitution.

I. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002). DOL has reviewed this rescission under the OMB guidelines and has concluded that it is consistent with applicable policies in those guidelines.

J. Review Under Additional Executive Orders and Presidential Memoranda

DOL has examined this rescission and has determined that it is consistent with the policies and directives outlined in E.O. 14154, “Unleashing American Energy,” E.O. 14192, “Unleashing Prosperity Through Deregulation,” and Presidential Memorandum, “Delivering Emergency Price Relief for American Families and Defeating the Cost-of-Living Crisis.” This rescission is expected to be an E.O. 14192 deregulatory action.

K. Congressional Notification

As required by 5 U.S.C. 801, DOL will report to Congress on the promulgation of this rule before its effective date. The report will state that it has been determined that the rule is not a “major rule” as defined by 5 U.S.C. 804(2).

List of Subjects

29 CFR Part 95

Accounting, Colleges and universities, Grant programs, Hospitals, Nonprofit organizations, Reporting and record-keeping requirements.

29 CFR Part 96

Accounting, Administrative practice and procedure, Colleges and universities, Government contracts, Grant programs, Hospitals, Indians, Intergovernmental relations, Loan programs, Nonprofit organizations, Reporting and record-keeping requirements.

29 CFR Part 97

Accounting, Grant programs, Indians, Intergovernmental relations.

29 CFR Part 99

Accounting, Administrative practice and procedure, Grant programs, Hospitals, Indians, Intergovernmental relations, Loan programs, Nonprofit organizations, Reporting and record-keeping requirements.

29 CFR Parts 95, 96, 97 and 99 [Removed and Reserved]

For the reasons set forth in the preamble, under the authority of 5 U.S.C. 301, the Department removes and reserves 29 CFR parts 95, 96, 97 and 99.

Dean Heyl,
Assistant Secretary for Administration and Management, Labor.

[FR Doc. 2025-11847 Filed 6-30-25; 8:45 am]

BILLING CODE 4510-04-P